DEPARTMENT OF COMMERCE

Office of the Secretary

[Agency Docket Number: 07050115-7106-01]

Notice of Availability of Fleet Alternative Fuel Vehicle Reports

AGENCY: Office of the Secretary, Commerce.

ACTION: Notice of availability of reports.

SUMMARY: In compliance with the Energy Policy Act of 1992, this notice announces the availability of the Department of Commerce's (DOC) alternative fuel vehicle (AFV) reports for fiscal years 2005 and 2006 for its agency fleet. Additionally, this report includes data concerning DOC's efforts to reduce energy consumption.

ADDRESSES: U.S. Department of Commerce, Office of the Chief Financial Officer and Assistant Secretary for Administration, Office of Administrative Services, 1401 Constitution Avenue, NW., Room 6316, Washington, DC 20230.

FOR FURTHER INFORMATION CONTACT: Joy Taylor or e-mail jtaylor2@doc.gov.

SUPPLEMENTARY INFORMATION:

Authority: Pub. L. 102-486, Title III, Sec. 310. Oct. 24, 1992, 106 Stat. 2874.

The Energy Policy Act of 1992 (Pub. L. 102-486, 42 U.S.C. 13211-13219) (EPAct), requires that AFV reports for FY 1999 and beyond be made public, including placement of the reports on the DOC Web site and announcement of the availability of the reports in the Federal Register. DOC's AFV reports for FY 2005 and FY 2006 are available on the internet at http://www.osec.doc.gov/oas/fleet.htm. The AFV reports contain information pertaining to planned acquisitions and projections for FY 2006 and FY 2007. EPAct requires that seventy-five percent of all covered, light-duty vehicles acquired for Federal fleets in FY 1999 and beyond be AFVs. In FY 2005 and FY 2006, the DOC exceeded the seventy-five percent acquisition requirement.

Dated: May 3, 2007.
Fred E. Fanning,
Director for Administrative Services.

[FR Doc. 07-2775 Filed 6-4-07; 8:45 am]

BILLING CODE 3510-03-M